DEPARTMENT OF TRANSPORTATION

Federal Aviation Administration

[Docket Number: FAA-2013-0392]

Notice for Data and Information Distribution Policy

AGENCY: Federal Aviation Administration (FAA), DOT.

ACTION: Policy for Distribution of FAA Data & Information.

SUMMARY: On April 24, 2013, FAA issued a proposed Data and Information Distribution Policy for public comment; 140 comments were received during the open comment period. On May 9, 2013, subsequent to the FAA's draft policy release, Executive Order (EO) 13642 “Making Open and Machine Readable the New Default for Government Information,” and Office of Management and Budget (OMB) M-13-13 “Open Data Policy—Managing Information as an Asset,” were issued. In this notice, FAA addresses all comments received, and announces the FAA's Data and Information Distribution Policy, developed in accordance with EO13642 and OMB M-13-13.

DATES: Effective Dates: December 22, 2014.

FOR FURTHER INFORMATION CONTACT: You may direct any questions on data and information policy to the FAA/ATO Data Management Directorate staff by telephone at (202) 385-8022 or by electronic mail at mojdeh.supola@faa.gov.

SUPPLEMENTARY INFORMATION:

Executive Order, Making Open and Machine Readable the New Default for Government Information EO 13642, issued May 9, 2013.

E-Government & Information Technology Act of 2002 (Pub. L. 107-347, 116 stat, 2899, 44 U.S.C. &101, H.R. 2458/S. 803).

Open Government Directive, OMB Memorandum for the Heads of Executive Departments and Agencies, M-10-06, issued December 8, 2009.

Office of Management and Budget, OMB Memorandum for the Heads of Executive Departments and Agencies, M-13-13, issued May 9, 2013.

Delivering an Efficient, Effective, and Accountable Government, Executive Order 13576, issued July 13, 2011.

Streamlining Service Delivery and Improving Customer Service, Executive Order 13571, issued April 27, 2011.

Digital Government Strategy, Building A 21st Century Platform to Better Serve the American People, issued May 23, 2012.

Management of Federal Information Resources, Office of Management and Budget Circular A-130, issued November 28, 2000.

Background: The FAA objective is to make data and information resources accessible, discoverable, and usable by the public in accordance with EO 13642 and OMB M-13-13. This is a transition away from FAA's historic approach of having multiple direct connections to FAA systems by a limited number of users. The new distribution policy will enhance data and information security and sharing, while reducing the cost of developing and maintaining multiple interfaces/direct connections currently used to distribute FAA data and information. This change will help FAA protect the confidentiality, integrity, and availability of data and information services to the public and to other government users. This policy supports the discovery and distribution of data and information while supporting FAA's ability to effectively manage and secure its data and information assets. The current processing of requests for historical FAA data and information handled under existing procedures such as Freedom of Information Act or similar processes is not changed by this policy.

E.O. 13642 and OMB M-13-13, Open Data Policy comments—Aircraft Owners and Pilots Association, Airport Council International North America, Air Transport Association of Canada (ATAC), Boeing, Bruel & Kjaer, Center for Effective Government, FlightAware, Harris, Los Angeles World Airport, Miami-Dade Aviation Department, SAAB Sensis, Seattle-Tacoma International Airport, Sunlight Foundation, Honeywell, Lockheed Martin, Raytheon, and WSI all expressed, in various ways, the concern that the FAA's proposed distribution policy would limit their access to FAA data and information; some commenters stated the draft policy was contrary to OMB M-13-13 Open Data Policy. The final FAA Data and Information Distribution Policy has been revised to reflect these concerns consistent with the applicable Executive orders and OMB guidance. Specifically the policy is consistent with OMB's M-13-13 Open Data Policy which allows for valid restriction for “privacy, confidentiality, security, trade secret, contractual or other valid restriction”. Despite those restrictions, access to FAA data and information will generally be more available to all users under this Policy. Users will continue to have to employ their own methods or software to process the FAA data and information that is made available. Data and information will not be tailored for one user (or users) absent specific agreements that include full FAA cost recovery.

Inconsistent with “NextGen Objectives”—Airport Council International North America, Boeing, FlightAware, ForeFlight, and Harris expressed many of NextGen capabilities are predicted on the availability and use of common air traffic data among certain users such as the FAA, aircraft operators, and airport operators. Under this Policy, FAA will strive for maximum data interoperability and accessibility to all users in accordance with OMB Open Data Policy implementation guidance.

“Monopoly” comments—Airlines for America, Airport Council International North America, Air Transport Association of Canada (ATAC), Boeing, FlightAware, ForeFlight, Los Angeles World Airport, Miami-Dade Aviation Department, SAAB Sensis, Sunlight Foundation, Harris, Honeywell, Lockheed Martin, and Raytheon expressed concern that FAA has previously limited data distribution by empowering certain entities, via contract, to have exclusive access to air traffic or NAS (National Air System) data. In addition, there were comments that contract practices, driven by a desire to re-coup cost of providing data to users, would undermine the principle of non-exclusivity of data. In accordance with the OMB M-13-13 Open Data Policy and as noted above, FAA will make more data and information accessible to the public and other government agencies as used by the FAA to conduct its statutory activities.

Data and Information Management comments—SAAB Sensis expressed concern over the usage of term “Information Steward” as used in the draft policy notice; this term has been removed in the final policy since it does not apply to external users. In the future, FAA will follow OMB guidance and definitions to the extent possible. Other commenters expressed concerns regarding the quality, accuracy, and availability of data and information once released from FAA. FAA is making available the data and information as used by FAA. FAA provides data and information “as-is” without warranty of any kind and cannot be responsible for any usage and modifications made by external parties after released. In this context, FAA notes even minor modifications (format, definitions, metadata, etc.) can have significant safety and liability implications; users are responsible for whether and how they choose to consume FAA data and information.

Cost Recovery comments—Airlines for America, Airport Council International North America, ATAC, Boeing, Bruel & Kjaer, Center for Effective Government, FlightAware, ForeFlight, Harris, Los Angeles World Airport, Miami-Dade Airport, and SAAB Sensis expressed concerns with the policy language about cost recovery. Under this policy, FAA will make data and information generally available to the public in the format used by FAA to meet its statutory requirements and mission, subject to availability of funding. Users will continue to have to use their own methods to process the FAA data and information that is made available and should be aware that FAA data formats and content will continue to evolve to meet FAA's requirements. While notice of changes in data formats and content will be provided when possible, there is no guarantee that notice will always occur. If the public or governmental users seek data and information in different format than that which is provided; the FAA will need to consider cost recovery. FAA will take into consideration all relevant factors in considering any request for a cost recovery agreement to supply specialized FAA data and information outside of FAA statutory responsibilities. In any request for FAA data and information that is not readily available, the requesting entities would be expected to bear all costs including but not limited to development, connection, transmission, processing, and maintenance.

Stakeholder Input/Workgroup—Airlines for America, Aircraft Owners and Pilots Associations, Airport Council International, SAAB Sensis, Boeing, Harris, Honeywell, Lockheed Martin, and Raytheon urged FAA to include stakeholders input by creating a Data Policy Committee comprised of aviation stakeholders (including airlines, airports, and industry organizations) to create a comprehensive data and information distribution policy. In light of EO 13642 and OMB M-13-13, Open Data Policy, and the comments to the draft policy in Federal Register Notice, FAA has determined that adequate input from stakeholders has already been provided to establish this Policy. FAA will continue to work with all interested parties in the implementation and evolution of this Policy through the Data Management organizations.

Policy: Considering the comments received, and to conform to current U.S. Government practices and policies, especially to the Open Data Policy, the FAA is establishing this policy for the distribution of NAS and non-NAS data and information to the public and other governmental users including the FAA's and other governmental contractors to enhance data and information management including governance, security, and cost. This policy does not confer any substantive rights or entitlements to consumers of FAA data and information beyond those established by law or other applicable authority.

The FAA will:

1. In accordance with EO 13642 and the OMB M-13-13, Open Data Policy, establish a catalogue of FAA data and information accessible by the public and other government user(s). In addition, per OMB guidance, FAA will identify data management organizations for NAS and non-NAS data and information management to accomplish this policy for FAA.

2. Specify the mechanism and metadata by which the public and other governmental user(s) may consume data and information including limits and restrictions required to protect national/homeland security, individual privacy, safety, confidentiality, and any other current or future government requirements.

3. Establish authorized access points for distribution of data and information, prevent direct connections to FAA systems, and seek disestablishment of any unauthorized access points. The FAA data management organizations identified above will protect the confidentiality, integrity, and availability of data and information services consistent with applicable law, Executive Orders, OMB guidance, and FAA Orders.

4. Ensure that all current and future FAA systems (e.g. NextGen) strive for maximum data interoperability and information accessibility for consumption and disclosure to all users via authorized distribution points. Requests for FAA data and information that is not readily available through the data and information catalogue and standard interfaces will require full FAA cost recovery for all aspects including, but not limited to, development, connection, transmission, processing, and maintenance of providing the data and information. Cost or technical considerations aside, the FAA may determine that it is not in its best interest to provide the data and information.

5. Ensure that FAA data and information is only created for use by the FAA to fulfill its statutory responsibilities and to the extent practicable, make that data and information generally available for consumption. While the data and information made available is to be accurate and timely for use by the FAA, FAA will make no warranties and will not be responsible for quality, continuity, or intended use of data once it leaves the FAA.

6. Establish policies and procedures to determine the extent to which FAA contractors or any other entities can use FAA data and information. Data in the possession or control of the FAA must be properly accounted for, controlled and managed by all FAA andor FAA contractors working under any federal, authority. Each contractor receiving, storing, manipulating, transmitting, or analyzing this data must submit to FAA a data management plan and have it approved prior to obtaining any FAA data and information. The plan must be approved by FAA Data Management Organization (s) noted above in accordance with Agency policy and requirements. Airports and non-FAA contractors working under state or local authority may also be subject to these provisions depending on the data they are receiving from FAA.

Glossary of Terms

Data: A representation of fact, concept, or instruction represented in a formalized form suitable for communication, interpretation or processing either by human and/or by automated systems. This is the lowest level of abstraction, compared to information.

Information: Data in context. The meaning given to data or the interpretation of data based on its context. The finished product as a result of the interpretation of data. Data processed in such a way that it can increase the knowledge of the person who receives it. Data that:

(1) are specific and organized for a purpose;

(2) are presented within a context that gives it meaning and relevance, and which;

(3) leads to an increase in understanding and decrease in uncertainty. The value of information lies solely in its ability to affect a behavior, decision, or outcome.

National Airspace System (NAS) Data: The data and information from the common network of U.S. airspace; air navigation facilities, equipment and services, airports or landing areas; aeronautical charts, information and services; rules, regulations and procedures, technical information, and manpower and material used to ensure safe and efficient use of U.S. navigable airspace. Included are system components shared jointly with the military and other governmental entities.

Non-NAS Data: The data and information needed for FAA regulatory, business administration, and planning function not part of the NAS. It includes all of the administrative applications, systems, and related policies and procedures not directly involved in the NAS.

Open Data: In accordance with OMB M-13-13, Open Data Policy, these terms refer to publicly available data structured in a way that enables the data to be fully discoverable and usable by end users and are consistent with the principles of public, accessible, described, reusable, complete, and timely, managed post-release.

Public—Consistent with OMB's Open Government Directive, agencies must adopt a presumption in favor of openness to the extent permitted by law and subject to privacy, confidentiality, security, or other valid restrictions.

Accessible—Open data are made available in convenient, modifiable, and open formats that can be retrieved, downloaded, indexed, and searched. Formats should be machine-readable (i.e., data are reasonably structured to allow automated processing). Open data structures do not discriminate against any person or group of persons and should be made available to the widest range of users for the widest range of purposes, often by providing the data in multiple formats for consumption. To the extent permitted by law, these formats should be non-proprietary, publicly available, and no restrictions should be placed upon their use.

Described—Open data are described fully so that consumers of the data have sufficient information to understand their strengths, weaknesses, analytical limitations, security requirements, as well as how to process them. This involves the use of robust, granular metadata (i.e., fields or elements that describe data), thorough documentation of data elements, data dictionaries, and, if applicable, additional descriptions of the purpose of the collection, the population of interest, the characteristics of the sample, and the method of data collection.

Reusable—Open data are made available under an open license that places no restrictions on their use.

Complete—Open data are published in primary forms (i.e., as collected at the source), with the finest possible level of granularity that is practicable and permitted by law and other requirements. Derived or aggregate open data should also be published but must reference the primary data.

Timely—Open data are made available as quickly as necessary to preserve the value of the data. Frequency of release should account for key audiences and downstream needs.

Managed Post Release—A point of contact must be designated to assist with data use and to respond to complaints about adherence to these open data requirements.

User: A human, his/her agent, a surrogate, or an entity that interacts with information processing systems. A person, organization entity, or automated process that accesses data in a system.

Contacts

You may direct questions on NAS data and information to the FAA/ATO, Mojdeh Supola, at (202) 267-1026 or by email to mojdeh.supola@faa.gov.

You may direct questions on Non-NAS data and information to the FAA/AIT, Tim Perez, at (202) 493-5069 or by email to Tim.Perez@faa.gov.

Issued in Washington, DC, on December 16, 2014.
Michael P. Huerta,
FAA Administrator.

[FR Doc. 2014-29910 Filed 12-19-14; 8:45 am]

BILLING CODE 4910-13-P